DEPARTMENT OF LABOR

Employment and Training Administration

[TA-W-81,739; TA-W-81,739A; TA-W-81,739B]

Amended Certification Regarding Eligibility To Apply for Worker Adjustment Assistance

TA-W-81,739, HEWLETT-PACKARD COMPANY, PERSONAL PRINTING SYSTEMS (PPS), FORMERLY KNOWN AS DESIGN DELIVERY ORGANIZATION (DDO), INCLUDING ON-SITE LEASED WORKERS FROM, MANPOWER, SYNOVA, INC., AND PINNACLE TECHNICAL RESOURCES, CORVALLIS, OR;

TA-W-81,739A, HEWLETT-PACKARD COMPANY, PERSONAL PRINTING SYSTEMS (PPS), INK JET & WEB SERVICES (IWS), WORLD WIDE DESIGN GROUP, VANCOUVER, WA;

TA-W-81,739B, HEWLETT-PACKARD COMPANY, PERSONAL PRINTING SYSTEMS (PPS), SUPPLY CHAIN OPERATIONS (FORMERLY KNOWN AS IWS), VANCOUVER, WA.

In accordance with Section 223 of the Trade Act of 1974, as amended (“Act”), 19 U.S.C. 2273, the Department of Labor issued a Certification of Eligibility to Apply for Worker Adjustment Assistance on September 18, 2012, applicable to workers of Hewlett-Packard Company (H-P), Design Delivery Organization (DDO), Corvallis, Oregon. The Department's Notice of determination was published in the Federal Register on October 5, 2012 (77 FR 194). Workers are engaged in activities related to the supply of new product introduction, development, and support.

New information obtained by the Department revealed that H-P experienced a re-organization, effective July 1, 2012, which placed several Corvallis, Oregon business units under its Personal Printing Systems Organization (PPS) unit, formerly referred to as DDO. The reorganization switched DDO with PPS as the largest business unit. PSS and all the sub-units within PPS continue to be managed by the same H-P company official, and PSS includes not only the unit DDO but also all units that were formerly within DDO. In addition, the reorganization placed under PPS, Vancouver, Washington, the Ink Jet and Web Services (IWS) and Supply Chain Operations (formerly known as IWS) units. The workers within PPS (both Corvallis, Oregon and Vancouver, Washington locations) supply research & development technology services, as well as analytical and reporting support services.

The intent of the Department's certification is to include all workers at H-P, PPS, Corvallis, Oregon (TA-W-81,739), and H-P, PPS, IWS, World Wide Design Group, Vancouver, Washington (TA-W-81,739A), and H-P, PPS, Supply Chain Operations, Vancouver, Washington, (TA-W-81,739B) who were all adversely affected by a shift of services abroad.

This amendment includes workers covered by TA-W-81,739A so that those workers who constitute the World Wide Design Group whose wages are reported under PPS (instead of IWS) are able to apply for Trade Adjustment Assistance.

The amended notice applicable to TA-W-81,739 is hereby issued as follows:

”All workers of Hewlett-Packard Company, Personal Printing Systems (PPS), formerly known as Design Delivery Organization (DDO), including on-site leased workers from Manpower, Synova, Inc., and Pinnacle Technical Resources, Corvallis, Oregon (TA-W-81,739); Hewlett-Packard Company, Personal Printing Systems (PPS), Ink Jet & Web Services (IWS), World Wide Design Group, Vancouver, Washington (TA-W-81,739A); and Hewlett-Packard Company, Printing & Personal Systems (PPS), Supply Chain Operations (formerly known as IWS), Vancouver, Washington, (TA-W-81,739B), who became totally or partially separated from employment on or after June 20, 2011 through September 18, 2014, and all workers in the groups threatened with total or partial separation from employment on September 18, 2012 through September 18, 2014, are eligible to apply for adjustment assistance under Chapter 2 of Title II of the Trade Act of 1074, as amended.”

Signed at Washington, DC this 7th day of December, 2012
Del Min Amy Chen,
Certifying Officer, Office of Trade Adjustment Assistance.

[FR Doc. 2013-00688 Filed 1-14-13; 8:45 am]

BILLING CODE 4510-FN-P